BOARD OF GOVERNORS OF THE FEDERAL RESERVE SYSTEM

[Docket No. OP-1681]

FEDERAL DEPOSIT INSURANCE CORPORATION

RIN 3064-ZA08

Extension of Comment Period; Request for Information on Application of the Uniform Financial Institutions Rating System

AGENCY: The Board of Governors of the Federal Reserve System and the Federal Deposit Insurance Corporation.

ACTION: Notice and request for information; extension of comment period.

SUMMARY: On October 31, 2019, the Board of Governors of the Federal Reserve System (Board) and the Federal Deposit Insurance Corporation (FDIC) (collectively, the agencies) published in the Federal Register a request for information (RFI) seeking information and comments from interested parties regarding the consistency of ratings assigned by the agencies under the Uniform Financial Institutions Rating System (UFIRS). The agencies have determined that an extension of the comment period until February 28, 2020, is appropriate.

DATES: The comment period for the notice published on October 31, 2019 (84 FR 58383), regarding the RFI on application of UFIRS, is extended from December 30, 2019, to February 28, 2020.

ADDRESSES: You may submit comments by any of the methods identified in the proposal.

FOR FURTHER INFORMATION CONTACT:

Board: Alex Kobulsky, Senior Financial Institution Policy Analyst II, (202) 452-2031, and Anna Lee Hewko, Associate Director, (202) 530-6260, Division of Supervision and Regulation; or Patricia Yeh, Senior Counsel, (202) 452-3089, Legal Division, Board of Governors of the Federal Reserve System, 20th and C Streets NW, Washington, DC 20551. For the hearing impaired only, Telecommunication Device for the Deaf (TDD), (202) 263-4869.

FDIC: Rae-Ann Miller, Associate Director, Risk Management Policy; Samuel B. Lutz, Counsel, Supervision and Legislation Branch, Legal Division, Federal Deposit Insurance Corporation, 550 17th Street NW, Washington, DC 20429.

SUPPLEMENTARY INFORMATION: On October 31, 2019, the agencies published in the Federal Register a RFI seeking information and comments from interested parties regarding the consistency of ratings assigned by the agencies under UFIRS. The assigned ratings are commonly known as CAMELS ratings. The agencies also sought feedback concerning the current use of CAMELS ratings by the agencies in their bank application and enforcement action processes. The RFI stated that the comment period would close on December 30, 2019. The agencies have received requests to extend the comment period. An extension of the comment period will provide additional opportunity for the public to prepare comments to address the questions posed by the agencies. Therefore, the agencies are extending the end of the comment period for the proposal from December 30, 2019, to February 28, 2020.

By order of the Board of Governors of the Federal Reserve System, acting through the Secretary of the Board under delegated authority, December 12, 2019.
Ann E. Misback,
Secretary of the Board.
Federal Deposit Insurance Corporation.
Dated at Washington, DC, on December 16, 2019.
Annmarie Boyd,
Assistant Executive Secretary.

[FR Doc. 2019-27848 Filed 12-26-19; 8:45 am]

BILLING CODE 6714-01-P 6210-01-P